DEPARTMENT OF HOMELAND SECURITY

Coast Guard

33 CFR Part 117

[Docket No. USCG-2018-0150]

Drawbridge Operation Regulation; Point Pleasant Canal, Point Pleasant, NJ

AGENCY: Coast Guard, DHS.

ACTION: Notice of deviation from drawbridge regulation.

SUMMARY: The Coast Guard has issued a temporary deviation from the operating schedule that governs the Bridge Avenue Bridge (Route 13) across Point Pleasant Canal, mile 3.9, Point Pleasant, NJ. The temporary deviation is necessary to facilitate electrical transformer, and back-up diesel motor repairs. This deviation allows the bridge to remain in the closed-to-navigation position.

DATES: This deviation is effective from March 1, 2018 through 3:30 p.m. on March 2, 2018. For purposes of enforcement, actual notice will be used from 7 a.m. on February 26, 2018, until March 1, 2018.

ADDRESSES: The docket for this deviation, [USCG-2018-0150] is available at http://www.regulations.gov. Type the docket number in the “SEARCH” box and click “SEARCH”. Click on Open Docket Folder on the line associated with this deviation.

FOR FURTHER INFORMATION CONTACT: If you have questions on this temporary deviation, call or email Mr. Martin Bridges, Bridge Administration Branch Fifth District, Coast Guard, telephone 757-398-6422, email Martin.A.Bridges@uscg.mil.

SUPPLEMENTARY INFORMATION: The New Jersey Department of Transportation, who owns and operates the Bridge Avenue Bridge (Route 13) across the Point Pleasant Canal, mile 3.9, Point Pleasant, NJ, has requested a temporary deviation from the current operating regulation. This temporary deviation is necessary to facilitate electrical transformer, and back-up diesel motor repairs. The bridge is a lift bridge, and has a vertical clearance in the closed-to-navigation position of 30 feet above mean high water.

The current operating schedule is set out in 33 CFR 117.5. Under this temporary deviation, the bridge will remain in the closed-to-navigation position from 7 a.m. on February 26, 2018, to 3:30 p.m. on March 2, 2018. Point Pleasant Canal is used by a variety of vessels including recreational vessels, and small commercial vessels. The Coast Guard has carefully considered the nature and volume of vessel traffic on the waterway in publishing this temporary deviation.

The bridge will not be able to open during the maintenance period. The bridge will be able to open for emergencies and there is no immediate alternate route for vessels to pass. The Coast Guard will also inform the users of the waterway through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: February 23, 2018.
Hal R. Pitts,
Bridge Program Manager, Fifth Coast Guard District.

[FR Doc. 2018-04165 Filed 2-28-18; 8:45 am]

BILLING CODE 9110-04-P